CORPORATION FOR NATIONAL AND COMMUNITY SERVICE

Renewal of a Currently Approved Information Collection

AGENCY: Corporation for National and Community Service.

ACTION: Notice.

SUMMARY: The Corporation for National and Community Service (hereinafter the “Corporation”), as part of its continuing effort to reduce paperwork and respondent burden, conducts a pre-clearance consultation process to provide the general public and federal agencies with an opportunity to comment on proposed and/or continuing collections of information in accordance with the Paperwork Reduction Act of 1995 (PRA95) (44 U.S.C. 3506(c)(2)(A)). This program helps to ensure that requested data can be provided in the desired format, reporting burden (time and financial resources) is minimized, collection instruments are clearly understood, and the impact of the collection on respondents can be properly assessed. Individuals who use a telecommunications device for the deaf (TTY-TDD) may call (202) 565-3472 between 8:30 a.m. and 5:00 p.m. Eastern time, Monday through Friday.

Currently, the Corporation is soliciting comments concerning the Corporation's AmeriCorps' Member Feedback Survey (formerly known as AmeriCorps' Performance Measurement).

Copies of the information collection request can be obtained by contacting the office listed in the addresses section of this notice.

DATES: Written comments must be submitted to the individual and office listed in the ADDRESSES section by February 14, 2011.

ADDRESSES: You may submit comments identified by the title of the information collection activity, by any of the following methods.

(1) By mail sent to: Corporation for National and Community Service, Office of Strategy; Attention Brooke Nicholas, Policy Analyst, Room 10901B, 1201 New York Avenue, NW., Washington, DC 20525.

(2) By hand delivery or by courier to the Corporation's mailroom at Room 8100 at the mail address given in paragraph (1) above, between 9 a.m. and 4 p.m. Monday through Friday, except Federal holidays.

(3) By fax to: (202) 606-3464, Attention: Brooke Nicholas, Policy Analyst.

(4) Electronically through the Corporation's e-mail address system: bnicholas@cns.gov. Individuals who use a telecommunications device for the deaf (TTY-TDD) may call (202) 606-3472 between 8:30 a.m. and 5 p.m. Eastern Time, Monday through Friday.

FOR FURTHER INFORMATION CONTACT: Brooke Nicholas, Policy Analyst, (202) 606-6627, or by e-mail at bnicholas@cns.gov.

SUPPLEMENTARY INFORMATION: Description: The Corporation is particularly interested in comments that:

• Evaluate the new title for the data collection. The Corporation is proposing an official title change to the AmeriCorps' Member Feedback Survey, from AmeriCorps' Performance Measurement.

• Evaluate whether the proposed collection of information is necessary for the proper performance of the functions of the Corporation, including whether the information will have practical utility.

• Evaluate the accuracy of the agency's estimate of the burden of the proposed collection of information, including the validity of the methodology and assumptions used.

• Propose ways to enhance the quality, utility, and clarity of the information to be collected.

• Propose ways to minimize the burden of the collection of information on those who are to respond, including through the use of appropriate automated, electronic, mechanical, or other technological collection techniques or other forms of information technology, e.g., permitting electronic submissions of responses.

Background: The primary purpose of the AmeriCorps' Member Feedback Survey is to provide reliable and valid outcome data on members' AmeriCorps experience. As part of this effort, all exiting AmeriCorps members are surveyed regarding their service experience with AmeriCorps State and National, AmeriCorps VISTA, and the AmeriCorps National Civilian Community Corps (NCCC). Information captured in these surveys helps inform policy decisions and the management of AmeriCorps' National Service Programs, as well as help guide the development of the support provided to members and national service organizations.

Current Action: The Corporation seeks to renew the current data collection. The estimated time burden has increased because the number of AmeriCorps' members is expected to grow as a result of the recent passage of the 2009 Edward M. Kennedy Serve America Act. In addition, the Exit Member's survey instrument(s) has also expanded to include a category on self-reported personal development and community impact. The current instruments are due to expire on March 31, 2011.

All AmeriCorps members are invited to complete the survey as they exit the program. The surveys will take approximately twenty minutes to complete per respondent.

The estimated number of respondents will incrementally increase each year in parallel with the expected numbers of allotted AmeriCorps slots. The numbers of respondents that will be surveyed is estimated as follows: 2011—115,000 respondents; 2012—140,000 respondents; 2013—170,000 respondents. Accordingly, the total time burden per year is as follows: 2011—38,333 hours; 2012—46,667 hours; 2013—56,667 hours.

Type of Review: Renewal.

Agency: Corporation for National and Community Service.

Title: AmeriCorps Member Feedback Survey (formerly known as the Performance Measurement in AmeriCorps).

OMB Number: 3045-0094.

Frequency: Ongoing.

Affected Public: Exiting AmeriCorps members.

Number of Annual Respondents: 2011—115,000 respondents; 2012—140,000 respondents; 2013—170,000 respondents.

Estimated Time per Respondent: Twenty minutes.

Total Annual Burden Hours: 2011—38,333 hours; 2012—46,667 hours; 2013—56,667 hours.

Total Burden Cost (capital/startup): $100,000.00.

Total Annual Cost (operating/maintaining systems or purchasing services): $20,000.00.

Dated: December 10, 2010.
Heather Peeler,
Chief Strategy Officer, Office of Strategy.

[FR Doc. 2010-31635 Filed 12-15-10; 8:45 am]

BILLING CODE 6050-$$-P